DEPARTMENT OF COMMERCE

Census Bureau

Agency Information Collection Activities; Submission to the Office of Management and Budget (OMB) for Review and Approval; Comment Request; Ask U.S. Panel

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 7, 2021, during a 60-day comment period. This notice allows for an additional 30 days for public comments.

Agency: U.S. Census Bureau.

Title: Ask U.S. Panel.

OMB Control Number: 0607-XXXX.

Form Number(s): Not yet determined.

Type of Request: Regular submission, New Information Collection Request.

Number of Respondents: 1,700.

Average Hours per Response: Approximately 39.9 minutes per respondent.

Burden Hours: 1,131 hours.

Needs and Uses: The Ask U.S. Panel (“the Panel”) will be a nationally representative survey panel for tracking public opinion on a variety of topics of interest to numerous federal agencies and their partners, and for conducting experimentation on alternative question wording and methodological approaches. The Panel may also be used to collect national-representative rapid-response data, as a complement to that currently collected by the Household Pulse Survey. The Panel will be developed through a multi-year effort. The first two years will focus on developing the overall design and conducting a large-scale field Pilot Test. Nationally representative data collection based on a probability sample of U.S. adults will begin in the third year. The current request is limited to the Pilot Test. A future request will contain details for the full Panel.

A key objective of the Panel will be to produce representative and reliable statistics on a rapid turnaround suitable for use by federal agencies. Ultimately, the Panel seeks to make it possible to release data that meets standards of the Federal Statistical Agencies and the Office of Management and Budget (OMB). At the same time, the Panel will ensure availability of frequent data collection for nationally representative estimates on a variety of topics and a variety of subgroups of the population.

The Panel is an interagency effort, with representatives from Census, the Department of Agriculture's Economic Research Service, the Bureau of Labor Statistics, the National Center for Health Statistics, the National Center for Science and Engineering Statistics, the National Center for Education Statistics, the Department of Defense, Department of Transportation, Department of Labor and the Social Security Administration guiding its design, content and methodological rigor, that will be used to meet data needs across the Federal Statistical System.

Data will be collected in two distinct phases. In Phase 1, a pilot, consisting of approximately ten percent of the final panel (1,700 people) will be recruited and surveyed as a proof-of-concept to refine methods. In Phase 2, the full panel will be recruited and surveyed using methodology refined during Phase 1. This 30-day notice seeks clearance for the Phase 1 Pilot. A future 30-day notice will outline specific plans for Phase 2.

Affected Public: Individuals or households.

Frequency: Twice a year.

Respondent's Obligation: Voluntary.

Legal Authority: The Pilot is being developed under a cooperative agreement awarded by the Census Bureau pursuant to the Consolidated Appropriations Act of 2021, Public Law 116-260, Section 110. Data collection from the Panel for Census Bureau sponsored surveys is authorized by Title 13, Sections, 131, 141, 161, 181, 182, 193, and 301. Data collection from the Panel for surveys sponsored by other agencies is authorized by 13 U.S.C. 8(b), where the Census Bureau is the collection agent, 44 U.S. Code 3509, where OMB can direct data collection, and the various U.S. Code titles that authorize those agencies to collect information, including but not limited to Title 49, Section 329 for Bureau of Transportation Statistics collections, and the Education Sciences Reform Act of 2002 (ESRA 2002, 20 U.S.C. 9543) for National Center for Education Statistics surveys.

The confidentiality of information collected on topical surveys in this panel is assured by CIPSEA, Title 13 United States Code, or other applicable titles which authorize the collection of information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-04222 Filed 2-28-22; 8:45 am]

BILLING CODE 3510-07-P